INTERNATIONAL TRADE COMMISSION

[Investigation No. 337-TA-627]

In the Matter of Certain Short Wavelength Semiconductor Lasers and Products Containing Same; Notice of Commission Decision Not To Review an Initial Determination Extending the Target Date of the Investigation

AGENCY: U.S. International Trade Commission.

ACTION: Notice.

SUMMARY: Notice is hereby given that the U.S. International Trade Commission has determined not to review an initial determination (“ID”) (Order No. 9) issued by the presiding administrative law judge (“ALJ”) extending the target date in the above-captioned investigation to September 14, 2009.

FOR FURTHER INFORMATION CONTACT: Paul M. Bartkowski, Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on January 3, 2008, based on a complaint filed by Seoul Semiconductor Company, Ltd. (“SSC”) of Seoul, Korea. The complaint, as supplemented, alleged violations of section 337 of the Tariff Act of 1930 (19 U.S.C. 1337) in the importation into the United States, the sale for importation, and the sale within the United States after importation of short wavelength semiconductor lasers and products containing the same that infringe claim 1 of U.S. Patent No. 5,321,713. The complaint initially named Nichia Corporation (“Nichia”) of Tokushima, Japan as the sole respondent. Subsequently, five additional respondents were added to the investigation.

On May 27, 2008, the administrative law judge (“ALJ”) issued Order No. 8, requesting that the parties submit a proposed target date and proposed schedules in response to Order No. 6, which added the five additional respondents mentioned above. Upon receipt and consideration of the submissions received, the ALJ issued the subject ID on June 13, 2008, extending the target date from August 24, 2009, to September 14, 2009. No petitions for review were filed. The Commission has determined not to review the ID.

The authority for the Commission's determination is contained in section 337 of the Tariff Act of 1930, as amended (19 U.S.C. 1337), and in sections 210.42 and 210.51 of the Commission's Rules of Practice and Procedure (19 CFR 210.42, 210.51).

By order of the Commission:
Issued: July 9, 2008.
Marilyn R. Abbott,
Secretary to the Commission.

[FR Doc. E8-16023 Filed 7-14-08; 8:45 am]

BILLING CODE 7020-02-P